DEPARTMENT OF DEFENSE

GENERAL SERVICES ADMINISTRATION

NATIONAL AERONAUTICS AND SPACE ADMINISTRATION

48 CFR Chapter 1

[Docket FAR 2009-0002, Sequence 4]

Federal Acquisition Regulation; Federal Acquisition Circular 2005-33; Small Entity Compliance Guide

AGENCIES: Department of Defense (DoD), General Services Administration (GSA), and National Aeronautics and Space Administration (NASA).

ACTION: Small Entity Compliance Guide.

SUMMARY: This document is issued under the joint authority of the Secretary of Defense, the Administrator of General Services and the Administrator of the National Aeronautics and Space Administration. This Small Entity Compliance Guide has been prepared in accordance with Section 212 of the Small Business Regulatory Enforcement Fairness Act of 1996. It consists of a summary of rules appearing in Federal Acquisition Circular (FAC) 2005-33 which amend the FAR. Interested parties may obtain further information regarding these rules by referring to FAC 2005-33, which precedes this document. These documents are also available via the Internet at http://www.regulations.gov.

FOR FURTHER INFORMATION CONTACT: Ms. Hada Flowers, Regulatory Secretariat, (202) 208-7282. For clarification of content, contact the analyst whose name appears in the table below.

List of Rules in FAC 2005-33
Item | Subject | FAR case | Analyst
I | Trade Agreements—Costa Rica, Oman, and Peru (Interim) | 2008-036 | Murphy.
II | Contractor's Request for Progress Payments | 2005-032 | Murphy.

SUPPLEMENTARY INFORMATION: Summaries for each FAR rule follow. For the actual revisions and/or amendments to these FAR cases, refer to the specific item number and subject set forth in the documents following these item summaries.

FAC 2005-33 amends the FAR as specified below:

Item I—Trade Agreements—Costa Rica, Oman, and Peru (FAR Case 2008-036) (Interim)

This interim rule allows contracting officers to purchase the goods and services of Costa Rica, Oman, and Peru without application of the Buy American Act if the acquisition is subject to the applicable trade agreements. The free trade agreements with Costa Rica, Oman, and Peru join the North American Free Trade Agreement (NAFTA), the Australia, Bahrain, Chile, Morocco, and Singapore Free Trade Agreements, and the Dominican Republic-Central America-United States Free Trade Agreement (CAFTA-DR) with respect to the Dominican Republic, El Salvador, Guatemala, Honduras, and Nicaragua, which are already in the FAR.

The threshold for supplies and services is $67,826 for the CAFTA-DR and $194,000 for the Oman and Peru FTAs. The threshold for construction is $7,443,000 for the CAFTA-DR and the Peru FTA and $8,817,449 for the Oman FTA.

Item II—Contractor's Request for Progress Payments (FAR Case 2005-032)

This final rule converts the proposed rule published at 73 FR 19035 on April 8, 2008, to a final rule with one editorial change. This final rule incorporates improvements related to requests for progress payments and the Standard Form (SF) 1443, Contractor's Request for Progress Payments, used to request those progress payments.

Dated: June 9, 2009.
Al Matera,
Director, Office of Acquisition Policy.

[FR Doc. E9-13976 Filed 6-12-09; 8:45 am]

BILLING CODE 6820-EP-C